DEPARTMENT OF COMMERCE

National Oceanic and Atmospheric Administration

[I.D. 042307A]

New England Fishery Management Council; Skate Fishery Management Plan; Scoping Process

AGENCY: National Marine Fisheries Service (NMFS), National Oceanic and Atmospheric Administration (NOAA), Commerce

ACTION: Notice of intent to prepare an environmental impact statement (EIS) and notice of initiation of scoping process; request for comments.

SUMMARY: The New England Fishery Management Council (Council) announces its intent to prepare an amendment to the Skate Fishery Management Plan (FMP) and to prepare an EIS to analyze the impacts of any proposed management measures. The Council is also formally initiating a public process to determine the scope of alternatives to be addressed in the amendment and EIS. The purpose of this notification is to alert the interested public of the re-commencement of the scoping process and to provide for public participation in compliance with environmental documentation requirements.

DATES: The Council will discuss and take scoping comments at public meetings in May, 2007. For specific dates and times of the scoping meetings, see SUPPLEMENTARY INFORMATION. Written scoping comments must be received on or before 5 p.m., local time, May 30, 2007.

ADDRESSES: The Council will take scoping comments at public meetings in Gloucester, MA, Narragansett, RI and Buzzards Bay, MA. For specific locations, see SUPPLEMENTARY INFORMATION. Written comments should be submitted by any of the following methods:

• Mail: Patricia A. Kurkul, Regional Administrator, Northeast Region, National Marine Fisheries Service, One Blackburn Drive, Gloucester, MA 01930-2298. Please write on the envelope: “Scoping Comments on Amendment 3 to the Skate FMP”;

• E-mail: SkateScoping@noaa.gov;

• Federal e-Rulemaking Portal: http://www.regulations.gov; or

• Fax: (978) 281-9135.

Requests for copies of the scoping document and other information should be directed to Paul J. Howard, Executive Director, New England Fishery Management Council, 50 Water Street, Mill 2, Newburyport, MA 01950, telephone (978) 465-0492. The scoping document is also accessible electronically via the Internet at http://www.nefmc.org/skates/index.html.

FOR FURTHER INFORMATION CONTACT: Paul J. Howard, Executive Director, New England Fishery Management Council, (978) 465-0492.

SUPPLEMENTARY INFORMATION:

Background

The Skate FMP was implemented in September 2003. The primary objectives of the Skate FMP are to: (1) Protect the overfished species of skates and increase their biomass to target levels specified in the FMP while preventing overfishing of the other skate species; and (2) collect information critical for improving knowledge of skate fisheries by species and for monitoring the status of skate fisheries, resources, and related markets, as well as the effectiveness of skates management approaches. The FMP includes reporting requirements to improve fishery information, prohibitions on overfished species, a trip limit for the skate wing fishery, and mechanisms for FMP monitoring and plan adjustments. Through the establishment of a “baseline” of management measures in other fisheries, the FMP recognizes the interactions of skates with groundfish, scallops, and monkfish fisheries. In 2006, winter skate was determined to be overfished. Therefore, under the provisions of the Magnuson-Stevens Fishery Conservation and Management Act, the Council must develop and implement a rebuilding plan for this resource.

Measures Under Consideration

The Council may consider a host of management measures to reduce skate mortality, improve reporting, cap or reduce landings, and/or reduce bycatch and discard mortality to prevent overfishing and rebuild overfished stocks. Measures that may be considered include, but are not limited to, a hard TAC for the directed skate fishery, annual catch limits and accountability measures, greater regulation of the fishery through days-at-sea limits, changes to skate possession limits, changes to exempted fisheries and closed areas, new gear regulations, and elimination of the baseline review process and proxy input controls.

It is possible that during the scoping process, other issues will be raised related to the purpose of this amendment, and if appropriate, those issues will be considered by the Council as well.

Scoping Process

All persons affected by or otherwise interested in skate management are invited to participate in determining the scope and significance of issues to be analyzed by submitting written comments (see ADDRESSES) and/or by attending one of the scoping meetings. Scope consists of the range of actions, alternatives, and impacts to be considered. Alternatives include the following: Not amending the management plan (taking no action); developing an amendment that contains management measures such as those discussed in this notice; or other reasonable courses of action. Impacts may be direct, indirect, or cumulative.

This scoping process will also identify and eliminate from detailed analysis issues that are not relevant or feasible. When, after the scoping process is completed, the Council proceeds with the development of an amendment to the Skate FMP, the Council will prepare an EIS to analyze the impacts of the range of alternatives under consideration. The Council will hold public hearings to receive comments on the draft amendment and on the analysis of its impacts presented in the EIS.

Scoping Hearing Schedule

The Council will discuss and take scoping comments at the following public meetings:

1. Tuesday, May 22, 2007, from 7 - 9 p.m.; Gloucester City Hall, Kyrouz Auditorium, 9 Dale Avenue, Gloucester, MA 01930; telephone: (978) 281-9720.

2. Wednesday, May 23, 2007, from 7 - 9 p.m.; Narragansett Town Hall, 25 Fifth Avenue, Narragansett, RI 02882; telephone: (401) 789-1044.

3. Thursday, May 24, 2007, from 7 - 9 p.m.; Mass Maritime, 101 Academy Drive, Buzzards Bay, MA 02532; telephone: (508) 830-5000.

Special Accommodations

These meetings are accessible to people with physical disabilities. Requests for sign language interpretation or other auxiliary aids should be directed to Paul J. Howard (see ADDRESSES) at least 5 days prior to the meeting date.

Authority: 16 U.S.C. 1801 et seq.

Dated: April 24, 2007.
James P. Burgess,
Acting Director, Office of Sustainable Fisheries, National Marine Fisheries Service.

[FR Doc. E7-8187 Filed 4-27-07; 8:45 am]

BILLING CODE 3510-22-S